DEPARTMENT OF COMMERCE

U.S. Census Bureau

Proposed Information Collection; Comment Request; Monthly Retail Trade Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before January 14, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Scott Scheleur, U.S. Census Bureau, Room 8K181, 4600 Silver Hill Road, Washington, DC 20233-6500, (301) 763-2713.

SUPPLEMENTARY INFORMATION

I. Abstract

The Monthly Retail Trade Survey provides estimates of monthly retail sales, end-of-month merchandise inventories, and quarterly e-commerce sales of retailers in the United States by selected kinds of business. Also, it provides monthly sales of food service establishments. The Bureau of Economic Analysis (BEA) uses this information to prepare the National Income and Products Accounts and to benchmark the annual input-output tables. Statistics provided from the Monthly Retail Trade Survey are used to calculate the gross domestic product (GDP).

Estimates produced from the Monthly Retail Trade Survey are based on a probability sample. The sample design consists of one fixed panel where all cases are requested to report sales and/or inventories each month.

Listed below are the series of retail form numbers and a description of each form:

Series | Description
SM-44(06)S | Non Department Store/Sales Only/WO E-Commerce.
SM-44(06)SE | Non Department Store/Sales Only W E-Commerce.
SM-44(06)SS | Non Department Store/Sales Only/Screener.
SM-44(06)B | Non Department Store/Sales and Inventory/WO E-Commerce.
SM-44(06)BE | Non Department Store/Sales and Inventory/W E-Commerce.
SM-44(06)BS | Non Department Store/Sales and Inventory/Screener.
SM-45(06)S | Department Store/Sales Only/WO E-Commerce.
SM-45(06)SE | Department Store/Sales Only/W E-Commerce.
SM-45(06)SS | Department Store/Sales Only/Screener.
SM-45(06)B | Department Store/Sales and Inventory/WO E-Commerce.
SM-45(06)BE | Department Store/Sales and Inventory/W E-Commerce.
SM-45(06)BS | Department Store/Sales and Inventory/Screener.
SM-72(06)S | Food Services/Sales Only/WO E-Commerce.
SM-20(06)I | Non Department and Department Store/Inventory Only.

II. Method of Collection

This information will be collected by mail, fax, and telephone follow-up.

III. Data

OMB Control Number: 0607-0717.

Form Number: SM-44(06)S, SM-44(06)SE, SM-44(06)SS, SM-44(06)B, SM-44(06)BE, SM-44(06)BS, SM-45(06)S, SM-45(06)SE, SM-45(06)SS, SM-45(06)B, SM-45(06)BE, SM-45(06)BS, SM-72(06)S, and SM-20(06)I.

Type of Review: Regular submission.

Affected Public: Retail and Food Services firms in the United States.

Estimated Number of Respondents: 10,000.

Estimated Time Per Response: 7 minutes.

Estimated Total Annual Burden Hours: 14,000.

Estimated Total Annual Cost: $367,640.

Respondent's Obligation: Voluntary.

Legal Authority: Title 13 U.S.C. Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 7, 2007.
Gwellnar Banks,
Management Analyst, Office of the Chief Information Officer.

[FR Doc. E7-22234 Filed 11-14-07; 8:45 am]

BILLING CODE 3510-07-P